INTERNATIONAL TRADE COMMISSION

[Inv. No. 337-TA-884]

Certain Consumer Electronics With Display and Processing Capabilities; Institution of Investigation Pursuant to United States Code

AGENCY: U.S. International Trade Commission.

ACTION: Notice.

SUMMARY: Notice is hereby given that a complaint was filed with the U.S. International Trade Commission on May 17, 2013, under section 337 of the Tariff Act of 1930, as amended, 19 U.S.C. 1337, on behalf of Graphics Properties Holdings, Inc. of New Rochelle, New York. The complaint alleges violations of section 337 based upon the importation into the United States, the sale for importation, and the sale within the United States after importation of certain consumer electronics with display and processing capabilities by reason of infringement of U.S. Patent No. 6,650,327 (“the ’327 patent”); U.S. Patent No. 8,144,158 (“the ’158 patent”); and U.S. Patent No. 5,717,881 (“the ’881 patent”). The complaint further alleges that an industry in the United States exists as required by subsection (a)(2) of section 337. A letter supplementing the complaint was filed on June 7, 2013.

The complainant requests that the Commission institute an investigation and, after the investigation, issue a limited exclusion order and cease and desist orders.

ADDRESSES: The complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2012).

Scope of Investigation: Having considered the complaint, the U.S. International Trade Commission, on ___ , 2013, ordered that—

(1) Pursuant to subsection (b) of section 337 of the Tariff Act of 1930, as amended, an investigation be instituted to determine whether there is a violation of subsection (a)(1)(B) of section 337 in the importation into the United States, the sale for importation, or the sale within the United States after importation of certain consumer electronics with display and processing capabilities by reason of infringement of one or more of claims 2, 3, 5-8, and 25-31 of the ’327 patent; claims 1, 3, 4, and 6-10 of the ’158; and claim 1 of the ’881 patent, and whether an industry in the United States exists as required by subsection (a)(2) of section 337;

(2) For the purpose of the investigation so instituted, the following are hereby named as parties upon which this notice of investigation shall be served:

(a) The complainant is: Graphics Properties Holdings, Inc., 56 Harrison Street, Suite 203A, New Rochelle, NY 10801-6555.

(b) The respondents are the following entities alleged to be in violation of section 337, and are the parties upon which the complaint is to be served:

Panasonic Corporation, 1006 Oaza Kadoma-shi, Kadoma 571-8501, Osaka, Japan.

Panasonic Corporation of North America, 1 Panasonic Way, Secaucus, NJ 07094.

Toshiba Corporation, 1-1, Shibaura 1 Chome, Minato-Ku, Tokyo 105-8001, Japan.

Toshiba America, Inc., 1251 Avenue of the Americas, Suite 4110, New York, NY 10020.

Toshiba America Information Systems, Inc., 9740 Irvine Boulevard, Irvine, CA 92618.

Vizio, Inc., 39 Tesla, Irvine, CA 92618.

AmTran Logistics, Inc., 9 Goddard, Irvine, CA 92618.

AmTran Technology Co., Ltd., 17f, 268, Lien Cheng Road, 23553 New Taipei City, Taiwan.

ZTE Corporation, ZTE Plaza, No. 55, Hi-Tech Road South, Hi-Tech Industrial Park, Shenzhen 518057, Guangdong, China.

ZTE (USA) Inc. (registered agent), 33 Wood Avenue South, Floor 2, Iselin, NJ 08830, and 2425 N. Central Expressway #323, Richardson, TX 75080.

ZTE Solutions, 2425 N. Central Expressway #323, Richardson, TX 75080.

(c) The Office of Unfair Import Investigations, U.S. International Trade Commission, 500 E Street SW., Suite 401, Washington, DC 20436; and

(3) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

Issued: June 20, 2013.
By order of the Commission.
William R. Bishop,
Supervisory Hearings and Information Officer.

[FR Doc. 2013-15103 Filed 6-24-13; 8:45 am]

BILLING CODE 7020-02-P